DEPARTMENT OF JUSTICE

Notice of Lodging of Consent Decree Under the Clean Air Act

Notice is hereby given that on July 19, 2010, a proposed Consent Decree (the “Decree”) in United States v. Vanguard Car Rental USA, LLC, et al., Civil Action No. 1:10-cv-11199, was lodged with the United States District Court for the District of Massachusetts.

In a complaint, filed simultaneously with the Decree, the United States alleges that Vanguard Car Rental USA, LLC, Enterprises Rent-a-Car of Boston, LLC, and Camrac, LLC (collectively “Vanguard”) violated the Clean Air Act, 42 U.S.C. 7401 et seq., at its rental car facilities at Bradley Field International Airport in Connecticut and at the Logan International Airport in Massachusetts. At those facilities, the United States alleges that Vanguard allowed its diesel shuttle buses to idle in excess of five minutes, as prescribed by 310 CMR 7.11(b), a regulation included in the Massachusetts State Implementation Plan, or to idle in excess of three minutes, as prescribed by RCSA § 19-508-18(a)(5), a regulation included in the Connecticut State Implementation Plan.

Pursuant to the Decree, Vanguard will implement a number of compliance measures, including: requiring a supervisor to walk through the facilities twice a day to identify and rectify illegal idling; the implementation of a driver training program that highlights Vanguard's anti-idling policy; the posting of “No Idling” signs at the facilities; and the certification by Vanguard that all its shuttle buses equipped with automatic engine shut-offs are working and set so that the vehicle engine will not idle longer than permitted under the applicable Massachusetts or Connecticut idling standard. Vanguard will also pay a $475,000 civil monetary penalty to the United States pursuant to the Decree.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Vanguard Car Rental USA, LLC, et al., D.J. Ref. 90-5-2-1-08930.

During the public comment period, the Decree may also be examined on the following Department of Justice Web site, http://www.usdoj.gov/enrd/Consent_Decrees.html. A copy of the Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-17895 Filed 7-21-10; 8:45 am]

BILLING CODE 4410-15-P